DEPARTMENT OF HOMELAND SECURITY

Office of the Under Secretary for Management; Submission for Review; Extension of Currently Approved Information Collection Requests for Various Contract Related Forms, Post-Contract Award, Regulation on Agency Protests, and Solicitation of Proposal Information for Award of Public Contracts

AGENCY: Office of the Under Secretary for Management, Department of Homeland Security.

ACTION: Notice; 30-day notice of information collections under review.

SUMMARY: The Department of Homeland Security (DHS) has submitted the following information collection requests (ICRs) to the Office of Management and Budget (OMB) for review and clearance in accordance with the Paperwork Reduction Act of 1995: 1600-0002 (various contract related forms (DHS Forms 0700-01 through 0700-05)), 1600-0003 (Post-Contract Award Information), 1600-0004 (Regulation on Agency Protests), and 1600-0005 (Solicitation of Proposal Information for Award of Public Contracts). The information collections were previously published in the Federal Register on November 20, 2003, at 68 FR 65462, allowing for OMB review and a 60-day public comment period. Comments received by DHS are being reviewed as applicable. The purpose of this notice is to allow an additional 30 days for public comments on the information collections under review.

DATES: Comments are encouraged and will be accepted until May 7, 2004.

ADDRESSES: Office of Management and Budget, Attn: Desk Officer for Homeland Security, Office of Management and Budget Room 10235, Washington, DC 20503.

FOR FURTHER INFORMATION CONTACT: Yvonne Pollard, (202) 692-4221 (this is not a toll free number).

SUPPLEMENTARY INFORMATION: Written comments and/or suggestions regarding the items contained in this notice should be directed to the Office of Management and Budget at the above address. This process is conducted in accordance with 5 CFR 1320.10. A copy of this ICR, with applicable supporting documentation, may be obtained by calling the Paperwork Reduction Act Contact listed above.

The Office of Management and Budget is particularly interested in comments which:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submissions of responses.

Analysis

Agency: Department of Homeland Security, Office of the Chief Procurement Officer, Acquisition Policy and Oversight.

Title: Various contract related forms (DHS Forms 0700-01 through 0700-05).

OMB No.: 1600-0002.

Frequency: On occasion.

Affected Public: Business or other for profit and individuals and households.

Estimated Number of Respondents: 3,428 respondents.

Estimated Time Per Respondent: 1 hour per response.

Total Burden Hours: 3,428.

Total Burden Cost: (capital/startup): None.

Total Burden Cost: (operating/maintaining): None.

Agency: Department of Homeland Security, Office of the Chief Procurement Officer, Acquisition Policy and Oversight.

Title: Post-Contract Award Information.

OMB No.: 1600-0003.

Frequency: On occasion.

Affected Public: Business or other for profit, individuals or households and Federal Government.

Estimated Number of Respondents: 5,574.

Estimated Time Per Respondent: 1 hour.

Total Burden Hours: 78,036.

Total Burden Cost: (capital/startup): None.

Total Burden Cost: (operating/maintaining): None.

Agency: Department of Homeland Security, Office of the Chief Procurement Officer, Acquisition Policy and Oversight.

Title: Regulation on Agency Protests.

OMB No.: 1600-0004.

Frequency: On occasion.

Affected Public: Business or other for profit and individuals or households.

Estimated Number of Respondents: 54.

Estimated Time Per Respondent: 1 hour.

Total Burden Hours: 108.

Total Burden Cost: (capital/startup): None.

Total Burden Cost: (operating/maintaining): None.

Agency:Department of Homeland Security, Office of the Chief Procurement Officer, Acquisition Policy and Oversight.

Title: Solicitation of Proposal Information for Award of Public Contracts.

OMB No.: 1600-0005.

Frequency: On occasion.

Affected Public: Business or other for profit, individuals or households, Federal Government, and State, Local, or Tribal Government.

Estimated Number of Respondents: 7,584.

Estimated Time Per Respondent: 1 hour.

Total Burden Hours: 106,176.

Total Burden Cost: (capital/startup): None.

Total Burden Cost: (operating/maintaining): None.

Description: The information collections under the Homeland Security Acquisition Regulation (HSAR) are necessary in order to implement applicable parts of the Federal Acquisition Regulation (FAR) for administering public contracts for supplies and services, providing detailed guidance for contractors doing business with DHS acquisition offices, and when inviting firms to submit proposals for public contracts for supplies and services to the Department of Homeland Security.

Dated: April 1, 2004.
Steve Cooper,
Chief Information Officer.

[FR Doc. 04-7875 Filed 4-6-04; 8:45 am]

BILLING CODE 4410-10-P